DEPARTMENT OF THE INTERIOR

National Park Service

Notice of Inventory Completion for Native American Human Remains and Associated Funerary Objects in the Possession of the Oregon State Museum of Anthropology, University of Oregon, Eugene, OR; Correction

AGENCY: National Park Service, Interior.

ACTION: Notice.

Notice is here given in accordance with the Native American Graves Protection and Repatriation Act (NAGPRA), 25 U.S.C. 3003, of the completion of an inventory of human remains and associated funerary objects in the possession of the Oregon State Museum of Anthropology. The human remains and associated funerary objects were removed from site 35UM35, within the town of Umatilla, OR.

This notice is published as part of the National Park Service’s administrative responsibilities under NAGPRA, 25 U.S.C. 3003 (d)(3). The determinations within this notice are the sole responsibility of the museum, institution, or Federal agency that has control of these Native American human remains and associated funerary objects. The National Park Service is not responsible for the determinations within this notice.

This notice corrects the minimum number of individuals and the number of associated funerary objects that were reported in a Notice of Inventory Completion published November 17, 1998 (FR Doc. 98-30681, pages 63945-63946). A review of Oregon State Museum of Anthropology collections resulted in the identification of 2 additional sets of Native American human remains and 11 additional associated funerary objects from site 35UM35, all culturally affiliated with the same tribe listed in the original notice. The notice also corrects the total number of associated funerary objects.

The sixth paragraph in the original notice is corrected by substituting the following paragraph:

In 1965, human remains representing a minimum of four individuals were recovered from site 35UM35, within the town of Umatilla, OR, during legally authorized excavations conducted by University of Oregon archeologists. No known individuals were identified. The 16 associated funerary objects are 1 pounder, 1 piece of quartzite, bones of a gray fox, fragments of mussel shell, unworked flakes, 1 steatite bead, 1 dentalium shell bead, 1 piece of antler, 6 chert tools, and 2 basalt fragments.

The ninth paragraph in the original notice is corrected by substituting the following paragraph:

Officials of the Oregon State Museum of Anthropology have determined that, pursuant to 25 U.S.C. 3001 (9-10), the human remains described above represent the physical remains of 12 individuals of Native American ancestry. Officials of the Oregon State Museum of Anthropology also have determined that, pursuant to 25 U.S.C. 3001 (3)(A), the 17 objects described above are reasonably believed to have been placed with or near individual human remains at the time of death or later as part of the death rite or ceremony. Lastly, officials of the Oregon State Museum of Anthropology have determined that, pursuant to 25 U.S.C. 3001 (2), there is a relationship of shared group identity that can be reasonably traced between the Native American human remains and associated funerary objects and the Confederated Tribes of the Umatilla Reservation, Oregon.

Representatives of any other Indian tribe that believes itself to be culturally affiliated with these human remains and associated funerary objects should contact C. Melvin Aikens, Oregon State Museum of Anthropology, 1224 University of Oregon, Eugene, OR 97402-1224, telephone (541) 346-5115, before September 19, 2003. Repatriation of the human remains and associated funerary objects to the Confederated Tribes of the Umatilla Reservation, Oregon may proceed after that date if no additional claimants come forward.

Oregon State Museum of Anthropology is responsible for notifying the Confederated Tribes of the Umatilla Reservation, Oregon that this notice has been published.

Dated: July 9, 2003.
John Robbins,
Assistant Director, Cultural Resources.

[FR Doc. 03-21339 Filed 8-19-03; 8:45 am]

BILLING CODE 4310-70-S